DEPARTMENT OF HEALTH AND HUMAN SERVICES

Health Resources and Services Administration

Agency Information Collection Activities: Proposed Collection: Public Comment Request; Information Collection Request Title: Application for Deemed Health Center Program Award Recipients To Sponsor Volunteer Health Professionals for Deemed Public Health Service Employment

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than September 21, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Application for Deemed Health Center Program Award Recipients to Sponsor Volunteer Health Professionals for Deemed Public Health Service Employment, OMB No. 0915-0032—Revision.

Abstract: Subsection 224(q) to the Public Health Service (PHS) Act (42 U.S.C. 233(q)), extended liability protections for the performance of medical, surgical, dental, and related functions to Volunteer Health Professionals (VHPs) of health centers that have also been deemed as employees of the PHS for this purpose. Through the process established by HRSA, VHPs of deemed health centers may be deemed as PHS employees for this purpose, with associated Federal Tort Claims Act (FTCA) coverage.

Deemed PHS employment provides the covered individual with immunity from lawsuits and related civil actions resulting from the performance of medical, surgical, dental, and related functions within the scope of deemed employment.

Health centers must submit to HRSA an annual deeming sponsorship application on behalf of their individually named volunteers. For deeming to apply, such annual applications for each individual volunteer must be approved by HRSA, and deeming status for liability protections to apply during the calendar year is documented by a Notice of Deeming Action.

HRSA is proposing several changes to the Application for Deemed Health Center Program Award Recipients to Sponsor VHPs for Deemed PHS Employment, to be used for deeming sponsorship applications for Calendar Year 2022 and thereafter, to improve question clarity, clarify required documentation, and support HRSA's analysis and understanding of program impact. Specifically, the Application includes the proposed changes listed below.

• Updated application language: Specifically, throughout the application, alternate terminology was utilized to provide greater clarity and specificity. These changes were based on grantee feedback and various forms of information received from the HRSA Helpline. These changes are not substantive in nature.

• Updated language and requested documents in section III of the application: Specifically, section III was edited to clarify the qualifications for eligible individuals and clarify program expectations where individuals have a history of disciplinary action or malpractice.

• Deleted former section IV: It has been determined that the information requested in this section, which related to offsite events and particularized determinations, is not necessary to evaluate eligibility for deeming.

The FTCA Program has a web based application system, the Electronic Handbooks. These electronic application forms decrease the time and effort required to complete the older, paper-based OMB approved FTCA application forms. The application includes Acknowledgments of Deemed Status Requirements, Acknowledgment of Required Performance Conditions, and Information on the Volunteers Sponsored for Deeming.

Need and Proposed Use of the Information: Deeming sponsorship applications must address certain specified criteria required by law in order for deeming determinations to be issued. The application submissions provides HRSA with the information required to determine whether an individual meets the requirements for deemed PHS employment for purposes of providing liability protections under section 224(q) of the PHS Act.

Likely Respondents: Respondents include Health Center Program funds recipients seeking to sponsor their volunteer health professionals for deemed employment for purposes of FTCA coverage.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Application for Deemed Health Center Program Award Recipients to Sponsor VHPs for Deemed PHS Employment | 1,156 | 3 | 3,468 | 2 | 6,936
Total | 1,156 |  | 3,468 |  | 6,936

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-15696 Filed 7-20-20; 8:45 am]

BILLING CODE 4165-15-P